DEPARTMENT OF HOMELAND SECURITY

Coast Guard

[Docket No. USCG-2025-0300]

National Commercial Fishing Vessel Safety Advisory Committee; Vacancies

AGENCY: U.S. Coast Guard, Department of Homeland Security.

ACTION: Notice; request for applications.

SUMMARY: The U. S. Coast Guard is resoliciting applications from persons interested in membership on the National Commercial Fishing Safety Advisory Committee (Committee). On June 17, 2025, the Coast Guard published in the Federal Register (90 FR 25621, Docket No. USCG-2025-0148) an announcement that we were soliciting applications for membership on the Committee. We did not receive a sufficient number of applications overall, nor did we receive any applications for three (3) vacancies for representatives of the commercial fishing industry and one (1) vacancy for a representative of the manufacturers of equipment of vessels for which Chapter 45 of Title 46 of the United States Code applies. Therefore, we are resoliciting for applications for all eighteen (18) vacancies. We particularly encourage applications from representatives of the commercial fishing industry and equipment manufacturers.

DATES: Complete applications should reach the U.S. Coast Guard on or before January 5, 2026.

ADDRESSES: Applications must include: (a) a cover letter that expresses the applicant's interest in an appointment to the Committee and detailing the applicants qualifications to serve as a Special Government Employee representing the general public, and/or as a representative in one or more of the 18 other membership positions, (b) a resume detailing the applicant's relevant experience for the position applied for, and (c) a brief 2-3 paragraph biography written in third person. Applications should be submitted via email with subject line “NCFSAC Vacancy Application” to CGCVC3@uscg.mil.

FOR FURTHER INFORMATION CONTACT: Mr. Jonathan Wendland, Alternate Designated Federal Officer of the National Commercial Fishing Safety Advisory Committee; telephone 202-372-1245; or email at CGCVC3@uscg.mil.

SUPPLEMENTARY INFORMATION: The National Commercial Fishing Safety Advisory Committee is a Federal advisory committee. The Committee was established on December 4, 2018, by section 601 of the Frank LoBiondo Coast Guard Authorization Act of 2018 (Pub. L. Number 115-282, 132 Statute 4192) and amended by § 8335 of the National Defense Authorization Act of 2021 (Pub. L. Number 116-283, 134 Statute 4706) and codified in 46 U.S. Code § 15102. The Committee operates under the provisions of the Federal Advisory Committee Act and 46 U.S. Code 15109.

The Committee provides advice and recommendations in writing to the Secretary of Homeland Security on matters relating to the (1) safe operation of vessels to which chapter 45 of Title 46 United States Code applies, including the matters of—(A) navigation safety; (B) safety equipment and procedures; (C) marine insurance; (D) vessel design, construction, maintenance, and operation; and (E) personnel qualifications and training; (2) review regulations proposed under chapter 45 of this title (during preparation of the regulations); and (3) review marine casualties and investigations of vessels covered by chapter 45 of Title 46 United States Code and make recommendations to the Secretary of Homeland Security to improve safety and reduce vessel casualties.

The Committee is required to meet at least twice a year in accordance with 46 U.S. Code 15109(a)(2)(A). We expect the Committee to meet at least twice a year, but it may meet more frequently. The meetings are selected by the U.S. Coast Guard and are generally held across the country as close as possible to commercial fishing communities.

Under provisions in 46 U.S. Code 15109(f)(6), if you are appointed as a member of the Committee, your membership term will expire on December 31st of the third full year after the effective date of your appointment. The Secretary of Homeland Security may require an individual to have passed an appropriate security background examination before appointment to the Committee, per 46 U.S. Code 15109(f)(4).

All members will serve at their own expense and receive no salary or other compensation from the Federal Government, with the exception that members may be reimbursed for travel and per diem in accordance with Federal Travel Regulations.

In this resolicitation for Committee members, we will consider applications for all 18 positions:

(A) Ten members shall represent the commercial fishing industry and—

(i) as a group, shall together reflect a regional and representational balance; and (ii) as individuals shall each have experience—

(I) in the operation of vessels in which chapter 45 of Title 46 United States Code applies; or

(II) as a crew member or processing line worker on a fish processing vessel.

(B) One member shall represent naval architects and marine engineers.

(C) One member shall represent manufacturers of equipment for vessels to which Chapter 45 of Title 46 United States Code applies.

(D) One member shall represent education and training professionals related to fishing vessel, fish processing vessel, and fish tender vessel safety and personnel qualifications.

(E) One member shall represent underwriters that ensure vessels to which chapter 45 of Title 46 United States Code applies.

(F) One member shall represent owners of vessels to which chapter 45 of Title 46 United States Code .

(G) Three members shall represent the general public and, to the extent possible, shall include-

(i) an independent expert or consultant in maritime safety;

(ii) a marine surveyor who provides services to vessels to which chapter 45 of Title 46 United States Code applies; and

(iii) a person familiar with issues affecting fishing communities and the families of fishermen.

The members who will fill positions (A) through (F) as described above will be appointed to represent the interest of their respective groups and viewpoints and are not Special Government Employees as defined in 18 U.S. Code 202(a). As representatives, the members are expected to represent and speak on behalf of interests, views, or perspectives of a recognizable group of persons or class of stakeholders.

If you are selected to fill position (G) as described above, as a member drawn from the general public, you will be appointed and serve as a Special Government Employee as defined in 18 U.S. Code 202(a). Applicants for appointment as a Special Government Employee are required to complete a Confidential Financial Disclosure Report (Office of Government Ethics Form 450) for new entrants online and receive ethics training. The U.S. Coast Guard may not release the reports or the information in them to the public except under an order issued by a Federal Court or as otherwise provided under the Privacy Act (5 U.S. Code 552a). Only the Designated U.S. Coast Guard Ethics Official or his or her designee may release a Confidential Financial Disclosure Report. Applicants must contact the individual listed above in the FOR FURTHER INFORMATION CONTACT section for more information.

Registered lobbyists are not eligible to serve on Federal Advisory Committees in an individual capacity. See “Revised Guidance on Appointment of Lobbyists to Federal Advisory Committees, Boards and Commissions” (79 Federal Register 47482, August 13, 2014). Registered lobbyists are “lobbyists,” as defined in 2 U.S. Code 1602, who are required by 2 U.S. Code 1603 to register with the Secretary of the Senate and the Clerk of the House of Representatives.

If you are appointed as a member of the Committee, you will be required to sign a Non-Disclosure Agreement and a Gratuitous Services Agreement.

In order for the Department to fully leverage a wide range of experience and education, the National Commercial Fishing Safety Advisory Committee must be varied, with regard to professional and technical expertise.

If you are interested in applying to become a member of the Committee, email your complete application to CGCVC3@uscg.mil as provided in the ADDRESSES section of this notice.

Once we receive your application we will send you an email confirming receipt.

The U.S. Coast Guard will not consider incomplete or late applications.

Privacy Act Statement

Purpose: To obtain qualified applicants to fill 18 vacancies on the National Commercial Fishing Safety Advisory Committee. When you apply for appointment to the National Commercial Fishing Safety Advisory Committee, the Department of Homeland Security collects your name, contact information, and any other personal information that you submit in conjunction with your application. The Department of Homeland Security will use this information to evaluate your candidacy for Committee membership. If you are chosen to serve as a Committee member, your name will appear in publicly available Committee documents, membership lists, and Committee reports.

Authorities: 5 U.S. Code chapter 10; 46 U.S. Code 15102 and 15109; and 18 U.S. Code 202(a), and Department of Homeland Security Delegation Number 00915.

Routine Uses: Authorized U.S. Coast Guard personnel will use this information to consider and obtain qualified candidates to serve on the Committee. Any external disclosures of information within this record will be made in accordance with Department of Homeland Security/ALL-009, Department of Homeland Security Advisory Committee (73 Federal Register 57639, October 3, 2008).

Consequences of Failure to Provide Information: Furnishing this information is voluntary. However, failure to furnish the requested information may result in your application not being considered for the Committee.

Robert C. Compher,
Captain, U.S. Coast Guard, Director of Inspections and Compliance.

[FR Doc. 2025-20306 Filed 11-18-25; 8:45 am]

BILLING CODE 9110-04-P